DEPARTMENT OF TRANSPORTATION

Coast Guard

33 CFR Part 117

[CGD 08-01-016]

Drawbridge Operating Regulation; Mississippi River, Iowa and Illinois

AGENCY: Coast Guard, DOT.

ACTION: Temporary deviation.

SUMMARY: The Commander, Eighth Coast Guard District, has authorized a temporary deviation from the regulation governing the Rock Island Railroad & Highway Drawbridge, across the Upper Mississippi River at Mile 482.9, at Rock Island, Illinois. This deviation allows for the drawbridge to remain closed-to-navigation for 8 hours from 6 a.m. to 2 p.m. on August 4, 2001. This action is required to allow the bridge owner time to perform structural repairs for concrete placement of the swing span.

DATES: This temporary deviation is effective from 6 a.m. to 2 p.m., August 4, 2001.

FOR FURTHER INFORMATION CONTACT: Roger K. Wiebusch, Bridge Administrator, Commander (obr), Eighth Coast Guard District, 1222 Spruce Street, St. Louis, MO 63103-2832, (314) 539-3900, extension 378.

SUPPLEMENTARY INFORMATION: The Rock Island Railroad & Highway Drawbridge provides a vertical clearance of 23.8 feet above normal pool in the closed-to-navigation position. Navigation on the waterway consists primarily of commercial tows and recreational watercraft. This deviation has been coordinated with waterway users who do not object.

This deviation allows the bridge to remain closed-to-navigation from 6 a.m. to 2 p.m., August 4, 2001. The drawbridge normally opens on signal.

Dated: June 28, 2001.
Roy J. Casto, RADM, USCG,
Commander, 8th CG District.

[FR Doc. 01-17379 Filed 7-10-01; 8:45 am]

BILLING CODE 4910-15-M